DEPARTMENT OF HOMELAND SECURITY

Coast Guard

33 CFR Part 117

[Docket No. USCG-2016-0360]

Drawbridge Operation Regulation; York River, Yorktown, VA

AGENCY: Coast Guard, DHS.

ACTION: Notice of deviation from drawbridge regulation; modification.

SUMMARY: The Coast Guard has modified a temporary deviation from the operating schedule that governs the Coleman Memorial Bridge (US 17) across the York River, mile 7.0, Yorktown, VA. This modified deviation is necessary to perform additional bridge maintenance. This modified deviation allows the bridge to remain in the closed-to-navigation position.

DATES: This modified deviation is effective from 7 a.m. July 31, 2016, to 7 p.m. on August 28, 2016.

ADDRESSES: The docket for this deviation, [USCG-2016-0360] is available at http://www.regulations.gov. Type the docket number in the “SEARCH” box and click “SEARCH”. Click on Open Docket Folder on the line associated with this deviation.

FOR FURTHER INFORMATION CONTACT: If you have questions on this temporary deviation, call or email Mrs. Traci Whitfield, Bridge Administration Branch Fifth District, Coast Guard; telephone (757) 398-6629, email Traci.G.Whitfield@uscg.mil.

SUPPLEMENTARY INFORMATION: On May 26, 2016, the Coast Guard published a temporary deviation entitled “Drawbridge Operation Regulation; York River, Yorktown, VA” in the Federal Register (81 FR 33391). Under that temporary deviation, the bridge would remain in the closed-to-navigation position from 7 a.m. to 7 p.m. as follows: Sunday, May 22, 2016; Sunday, June 5, 2016, with an inclement weather date on Sunday, June 12, 2016; Sunday, June 19, 2016, with an inclement weather date on Sunday, June 26, 2016; and Sunday, July 10, 2016, with an inclement weather date on Sunday, July 17, 2016.

The Virginia Department of Transportation (VDOT), who owns and operates the Coleman Memorial Bridge (US 17), has requested a modified temporary deviation from the currently published deviation to complete repairs. The bridge must be in the closed-to-navigation position, for an additional two Sundays, in order to perform the complexity of mechanical work, which normally takes two weeks and cannot be accomplished when the bridge is moveable. The bridge is a single bascule span and has a vertical clearance in the closed position of seven feet above mean high water.

Under this modified temporary deviation, the bridge will continue to remain in the closed-to-navigation position from 7 a.m. to 7 p.m. as follows: July 31, 2016, with an inclement weather date on Sunday, August 7, 2016; and Sunday, August 21, 2016, with an inclement weather date on Sunday, August 28, 2016. At all other times, the bridge will operate in accordance with the operating regulations set out in 33 CFR 117.1025.

The York River is used by a variety of vessels including deep draft ocean-going vessels, U.S. government vessels, small commercial fishing vessels, recreational vessels and tug and barge traffic. The Coast Guard has carefully coordinated the restrictions with U.S. government and commercial waterway users.

Vessels able to pass through the bridge in the closed position may do so at anytime. The bridge will not be able to open for emergencies and there is no immediate alternate route for vessels unable to pass through the bridge in the closed position. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: July 22, 2016.
Hal R. Pitts,
Bridge Program Manager, Fifth Coast Guard District.

[FR Doc. 2016-18214 Filed 8-1-16; 8:45 am]

BILLING CODE 9110-04-P